NUCLEAR REGULATORY COMMISSION

[NRC-2020-0194]

NRC's Full Draft Strategic Plan for Fiscal Years 2022 Through 2026

AGENCY: Nuclear Regulatory Commission.

ACTION: Request for comment.

SUMMARY: The U.S. Nuclear Regulatory Commission (NRC) is requesting comments on its Fiscal Years (FYs) 2022-2026 Full Draft Strategic Plan. The Full Draft Strategic Plan provides the agency's proposed strategic goals and objectives and proposed strategies for achieving them. The NRC encourages and welcomes stakeholder feedback that can help inform the continued development of the NRC's FYs 2022-2026 Strategic Plan and evidence building and evaluation activities.

DATES: Submit comments by October 25, 2021. Comments received after this date will be considered if it is practical to do so, but the Commission is able to ensure consideration only for comments received before this date.

ADDRESSES: You may submit comments by any of the following methods; however, the NRC encourages electronic comment submission through the Federal Rulemaking website:

• Federal Rulemaking Website: Go to https://www.regulations.gov and search for Docket ID NRC-2020-0194. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Branch.

For additional direction on obtaining information and submitting comments, see “Obtaining Information and Submitting Comments” in the SUPPLEMENTARY INFORMATION section of this document.

FOR FURTHER INFORMATION CONTACT: Carla Roque-Cruz, Office of the Executive Director for Operations, U.S. Nuclear Regulatory Commission, Washington, DC 20555-0001; telephone: 301-415-1455, email: Carla.Roque-Cruz@nrc.gov.

SUPPLEMENTARY INFORMATION:

I. Obtaining Information and Submitting Comments

A. Obtaining Information

Please refer to Docket ID NRC-2020-0194, when contacting the NRC about the information for this action. You may obtain publicly available information related to this action by any of the following methods:

• Federal Rulemaking Website: Go to https://www.regulations.gov and search for Docket ID NRC-2020-0194.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

• NRC's Public Website: The NRC's Full Draft Strategic Plan for FY 2022-2026 may be viewed online on the NRC's Public website on the Documents for Comment web page at https://www.nrc.gov/public-involve/doc-comment.html, under “Draft NUREG-Series Publications.”

B. Submitting Comments

The NRC encourages electronic comment submission through the Federal Rulemaking website (https://www.regulations.gov). Please include Docket ID NRC-2020-0194 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The Government Performance and Results Act Modernization Act of 2010 aligns strategic planning with the beginning of each new term of an Administration, requiring every Federal agency to produce a new Strategic Plan by the first Monday in February following the year in which the term of the President commences. The Strategic Plan provides the blueprint to plan, implement and monitor the work needed to achieve our mission. The NRC staff started developing the FYs 2022-2026 Strategic Plan in 2020 and published a Federal Register notice on September 11, 2020 (85 FR 56275) requesting external feedback on the agency's strategic goals, actions to realize those goals, and how to address key challenges and external factors as described in the current agency's Strategic Plan, NUREG 1614, Volume 7, “Strategic Plan Fiscal Years 2018-2022” (ADAMS Accession No. ML18032A561). The Federal Register notice on September 11, 2020 (85 FR 56275) also announced a September 22, 2020 public meeting. The feedback received from the notice and during the public meeting was used to develop NRC's FYs 2022-2026 High-Level Draft Strategic Plan (ADAMS Accession No. ML21165A241). On June 28, 2021, the staff held a second public meeting to discuss the NRC's FYs 2022-2026 High-Level Draft Strategic Plan. In developing the Full Draft Strategic Plan, the staff considered comments received from the Federal Register notice and the two public meetings. The staff has prepared a comment resolution matrix that addresses stakeholder feedback. The comment resolution matrix is available in ADAMS under Accession No. ML21250A199.

III. Discussion

The NRC is an independent agency established by the Energy Reorganization Act of 1974 that began operations in 1975 as a successor to the licensing and regulatory activities of the Atomic Energy Commission. The NRC's mission is to license and regulate the Nation's civilian use of radioactive materials to provide reasonable assurance of adequate protection of public health and safety, to promote the common defense and security, and to protect the environment.

The NRC's Full Draft Strategic Plan describes how the agency intends to achieve its three proposed strategic goals: (1) Ensure the safe and secure use of radioactive material, (2) continue to foster a healthy organization, and (3) inspire stakeholder confidence in the NRC. The plan provides an overview of the NRC's responsibilities and lays out the objectives, strategies, and key contributing programs and activities that will be used to achieve the agency's strategic goals. Moreover, with enactment of the Foundations for Evidence-Based Policymaking Act of 2018 (“Evidence Act”) (5 U.S.C. 312), Federal agencies' strategic plans are now required to include information on evidence-building and evaluation activities and how these activities impact the strategic planning and day-to-day operation of these agencies.

IV. Requested Information and Comments

The NRC is requesting comments from the public so that the agency may benefit from a wide range of stakeholder input to help shape the final FYs 2022-2026 Strategic Plan.

The focus of this request is to gather information on the contributing programs and activities, key external factors that may influence the ability of the NRC to achieve its strategic goals and the associated strategic objectives, and the evidence-building information included in the Full Draft Strategic Plan. The NRC welcomes comments from the public on these and any areas that they believe are relevant to these topics.

The NRC encourages all interested parties to comment on the Full Draft Strategic Plan. Stakeholder feedback will be valuable in helping the Commission develop a final draft Strategic Plan that has the benefit of the many views of the public and the regulated civilian nuclear industry. The NRC will consider the comments submitted, as appropriate, in the preparation of the final draft FYs 2022-2026 Strategic Plan. The NRC does not anticipate preparing individual responses to each comment received.

Dated: September 17, 2021.
For the Nuclear Regulatory Commission.
Wesley W. Held,
(Acting), Secretary of the Commission.

[FR Doc. 2021-20542 Filed 9-22-21; 8:45 am]

BILLING CODE 7590-01-P